DEPARTMENT OF COMMERCE

International Trade Administration

[A-570-106]

Wooden Cabinet and Vanities and Components Thereof From the People's Republic of China: Preliminary Results and Partial Rescission of the Antidumping Duty Administrative Review; 2019-2021

AGENCY: Enforcement and Compliance, International Trade Administration, Department of Commerce.

SUMMARY: The Department of Commerce (Commerce) preliminarily finds that Qufu Xinyu Furniture Co., Ltd. (Qufu Xinyu), did not make sales of subject merchandise at less than normal value (NV) during the period of review (POR) October 9, 2019, through March 31, 2021; Shanghai Beautystar Cabinetry Co., Ltd. (Beautystar), is part of the China-wide entity; and Jiang Su Rongxin Wood Industry Co., Ltd. (Rongxin Wood), is the successor-in-interest to Jiangsu Rongxin Cabinets Co., Ltd. (Rongxin Cabinets). Commerce is also rescinding the review with respect to 40 companies. Interested parties are invited to comment on these preliminary results of review.

DATES: Applicable May 6, 2022.

FOR FURTHER INFORMATION CONTACT: Jacob Keller, AD/CVD Operations, Office I, Enforcement and Compliance, International Trade Administration, U.S. Department of Commerce, 1401 Constitution Avenue NW, Washington, DC 20230; telephone: (202) 482-4948.

SUPPLEMENTARY INFORMATION:

Background

On April 21, 2020, the Department of Commerce published in the Federal Register the antidumping duty (AD) order on wooden cabinets and vanities and components thereof from the People's Republic of China (China).¹ On April 1, 2021, Commerce published in the Federal Register a notice of opportunity to request an administrative review of the Order.² On June 11, 2021, based on timely requests for an administrative review, Commerce initiated the administrative review of the Order.³ The administrative review covers 66 companies, including three mandatory respondents, Beautystar, Qufu Xinyu, and Rongxin Cabinets.⁴

¹ See Wooden Cabinets and Vanities and Components Thereof from the People's Republic of China: Antidumping Duty Order, 85 FR 22126 (April 21, 2020) (Order).

² See Antidumping or Countervailing Duty Order, Finding, or Suspended Investigation; Opportunity to Request Administrative Review, 86 FR 17137 (April 1, 2021).

³ See Initiation of Antidumping and Countervailing Duty Administrative Reviews, 86 FR 31282, 31296 (June 11, 2021) (Initiation Notice).

⁴ See Memoranda, “Antidumping Duty Administrative Review of Wooden Cabinets and Vanities and Components Thereof from the People's Republic of China: Respondent Selection,” dated August 6, 2021; “Antidumping Duty Administrative Review of Wooden Cabinets and Vanities and Components Thereof from the People's Republic of China: Second Respondent Selection,” dated September 17, 2021; and “Antidumping Duty Administrative Review of Wooden Cabinets and Vanities and Components Thereof from the People's Republic of China: Third Respondent Selection,” dated October 20, 2021.

Scope of the Order

The products covered by this Order are wooden cabinets and vanities that are for permanent installation (including floor mounted, wall mounted, ceiling hung or by attachment of plumbing), and wooden components thereof. A full description of the scope of the Order is provided in the Preliminary Decision Memorandum.⁵

⁵ See Memorandum, “Wooden Cabinets and Vanities and Components Thereof from the People's Republic of China: Decision Memorandum for Preliminary Results and Partial Rescission of the First Antidumping Duty Administrative Review,” dated concurrently with, and hereby adopted by, this notice (Preliminary Decision Memorandum).

Rescission of Review in Part

Pursuant to 19 CFR 351.213(d)(1), Commerce will rescind an administrative review, in whole or in part, if the party that requested a review withdraws its request within 90 days of the date of publication of the notice of initiation. The requests for an administrative review of the 40 companies listed in Appendix II to this notice were withdrawn within 90 days of the date of publication of the Initiation Notice.⁶ As a result, Commerce is rescinding this review with respect to these companies, in accordance with 19 CFR 351.213(d)(1).

⁶ See Company Letters, “Wooden Cabinets and Vanities from the People's Republic of China: Withdrawal of Request for Administrative Review,” dated June 29, 2021; “Wooden Cabinets and Vanities and Components Thereof from the People's Republic of China—Withdrawal of Fujian Senyi's Request for Administrative Review,” dated July 9, 2021; “Wooden Cabinets and Vanities and Components Thereof from the People's Republic of China; Withdrawal of Request for Review,” dated July 12, 2021; “Wooden Cabinets and Vanities from the People's Republic of China: Withdrawal of Request for Administrative Review,” dated July 13, 2021; “Wooden Cabinets and Vanities from the People's Republic of China: Withdrawal of Request for Administrative Review,” dated July 21, 2021; “Wooden Cabinets and Vanities and Components Thereof from the People's Republic of China—Withdrawal of Request for Administrative Review,” dated August 27, 2021; “Wooden Cabinets and Vanities from the People's Republic of China: Withdrawal of Request for Administrative Review,” dated August 30, 2021; “Wooden Cabinets and Vanities and Components Thereof from the People's Republic of China, A-570-106; Withdrawal of Request for Review,” dated September 3, 2021; “Antidumping Duty Administrative Review of Wooden Cabinets and Vanities and Components Thereof from the People's Republic of China: Withdrawal of Administrative Review Request—Jiangsu Beichen Wood Co., Ltd.,” dated September 7, 2021; “Wooden Cabinets and Vanities and Components Thereof from the People's Republic of China; Withdrawal of Administrative Review Request,” dated September 7, 2021; “Wooden Cabinets and Vanities and Components Thereof from the People's Republic of China: Withdrawal of Request for Administrative Review,” dated September 8, 2021; “Wooden Cabinets and Vanities from the People's Republic of China: Withdrawal of Request for Administrative Review,” dated September 8, 2021; “Wooden Cabinets and Vanities and Components Thereof from the People's Republic of China—Withdrawal of Request for Administrative Review,” dated September 8, 2021; and “Wooden Cabinets and Vanities and Components Thereof from The People's Republic of China: Withdrawal of Request for Administrative Review,” dated September 9, 2021; see also Petitioner's Letter, “Wooden Cabinets and Vanities and Components Thereof from: Withdrawal of Review Request for The Ancientree Cabinet Co., Ltd.,” dated August 26, 2021.

Separate Rates

Commerce preliminarily determines that 15 companies, not individually examined, are eligible for separate rates in this administrative review.⁷ The Tariff Act of 1930, as amended (the Act) and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. For the preliminary results of this review, Commerce has determined the estimated dumping margin for Qufu Xinyu to be zero. For the reasons explained in the Preliminary Decision Memorandum, we are assigning this rate to the non-examined respondents which qualify for a separate rate in this review.

⁷ See Appendix II; see also Preliminary Decision Memorandum at the “Separate Rate Determination” section for more details.

China-Wide Entity

Under Commerce's policy regarding the conditional review of the China-wide entity,⁸ the China-wide entity will not be under review unless a party specifically requests, or Commerce self-initiates, a review of the entity. Because no party requested a review of the China-wide entity in this review, the entity is not under review, and the entity's rate (i.e., 251.64 percent) is not subject to change.⁹ Commerce considers all other companies for which a review was requested (none of which filed a separate rate application) listed in Appendix II to this notice, to be part of the China-wide entity.¹⁰ We find mandatory respondent Beautystar to be a part of the China-wide entity in the instant review because it withdrew from participation and failed to submit a response to the initial AD questionnaire, thereby failing to establish its eligibility for a separate rate.¹¹

⁸ See Antidumping Proceedings: Announcement of Change in Department Practice for Respondent Selection in Antidumping Duty Proceedings and Conditional Review of the Nonmarket Economy Entity in NME Antidumping Duty Proceedings, 78 FR 65963 (November 4, 2013).

⁹ See Order.

¹⁰ See Initiation Notice (“All firms listed below that wish to qualify for separate rate status in the administrative reviews involving NME countries must complete, as appropriate, either a separate rate application or certification, as described below.”); see also Appendix II for the list of companies that are subject to this administrative review that are considered to be part of the China-wide entity.

¹¹ See Preliminary Decision Memorandum at 13-14.

Methodology

Commerce is conducting this review in accordance with section 751(a)(1)(B) of the Act. For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. A list of topics discussed in the Preliminary Decision Memorandum is included as an appendix to this notice. In addition, a complete version of the Preliminary Decision Memorandum can be found at https://access.trade.gov/public/FRNoticesListLayout.aspx.

Preliminary Rescission of the Administrative Review

As discussed in the Preliminary Decision Memorandum and as expounded upon in the Bona Fides Memorandum, Commerce preliminarily finds that the sale made by Dalian Hualing Wood Co., Ltd. (Hualing) serving as the basis for administrative review is not a bona fide sale of cabinets.¹² Commerce reached this conclusion based on the totality of the record information surrounding Hualing's reported sale, including, but not limited to, the price and quantity of the sale, the timing of the sale, the resale price and profit, and other relevant factors such as the single sale made during the POR, the “specialty” nature of the product, and the likelihood of future sales.¹³

¹² Id. at 6-11; see also Memorandum, “Antidumping Duty Administrative Review of Wooden Cabinets and Vanities and Components Thereof from the People's Republic of China: Preliminary Bona Fides Sale Analysis for Dalian Hualing Wood Co., Ltd.,” dated concurrently with this notice (Bona Fides Memorandum).

¹³ Id.

Because the non-bona fide sale was the only reported sale of subject merchandise during the POR, we preliminarily find that Hauling had no reviewable transactions during this POR and is ineligible for an administrative review. Accordingly, we intend to rescind this administrative review with respect to Hualing if our determination remains the same in the final results of this administrative review.¹⁴

¹⁴ Id.

Regarding Rongxin Cabinets, as discussed in the Preliminary Decision Memorandum, we preliminarily find that Rongxin Wood, is the successor-in-interest to Rongxin Cabinets. Consequently, we are preliminarily rescinding the review with respect to Rongxin Cabinets based on Rongxin Wood's timely withdrawal of its review request and because there are no other outstanding requests for review of Rongxin Cabinets or Rongxin Wood. For the complete successor-in-interest analysis, see the Preliminary Decision Memorandum.

Should the final results of review remain the same as these preliminary results of review, we intend to rescind the review of Rongxin Cabinets and in accordance with 19 CFR 351.213(d)(1). Additionally, effective the date of publication of the final results of review, we will instruct U.S. Customs and Border Protection (CBP) to apply the AD cash deposit rate applicable to Rongxin Cabinets to entries of subject merchandise exported by Rongxin Wood.

Preliminary Results of the Administrative Review

Commerce preliminarily determines that the following weighted-average dumping margin exists for the administrative review covering the period October 9, 2019, through March 31, 2021:

Exporter | Weighted-average dumping margin (percent)
Qufu Xinyu Furniture Co., Ltd | 0.00
Non-Selected Companies Under Review Receiving a Separate Rate ¹⁵ | 0.00

Disclosure

Commerce intends to disclose to parties to the proceeding the calculations performed for these preliminary results of review within five days of the date of publication of this notice in the Federal Register in accordance with 19 CFR 351.224(b).

¹⁵ See Appendix II.

Public Comment

Pursuant to 19 CFR 351.309(c), interested parties may submit case briefs no later than 30 days after the date of publication of this notice. Rebuttal briefs, limited to issues raised in the case briefs, may be filed not later than seven days after the date for filing case briefs.¹⁶ Pursuant to 19 CFR 351.309(d)(2), rebuttal briefs must be limited to issues raised in the case briefs.¹⁷ Commerce modified certain of its requirements for serving documents containing business proprietary information until further notice.¹⁸ Parties who submit case briefs or rebuttal briefs in this proceeding are encouraged to submit with each argument: (1) A statement of the issue; (2) a brief summary of the argument; and (3) a table of authorities.¹⁹

¹⁶ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹⁷ See 19 CFR 351.309; see also 19 CFR 351.303 (for general filing requirements).

¹⁸ See Temporary Rule Modifying AD/CVD Service Requirements Due to COVID-19; Extension of Effective Period, 85 FR 41363 (July 10, 2020).

¹⁹ See 19 CFR 351.309(c)(2) and (d)(2); see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the publication of this notice. Requests should contain the party's name, address, telephone number, the number of participants, whether any participant is a foreign national, and a list of the issues to be discussed. If a request for a hearing is made, Commerce intends to hold the hearing at a time and date to be determined. Parties should confirm by telephone the date, time, and location of the hearing two days before the scheduled date.

Unless the deadline is extended, Commerce intends to issue the final results of this review, including the results of its analysis of the issues raised in any written briefs, no later than 120 days after the date of publication of this notice, pursuant to section 751(a)(3)(A) of the Act and 19 CFR 351.213(h).

Assessment Rates

Upon issuing the final results, Commerce will determine, and CBP shall assess, antidumping duties on all appropriate entries covered by this review.²⁰ If the preliminary results are unchanged for the final results, we will instruct CBP to apply an ad valorem assessment rate of 251.64 percent to all entries of subject merchandise during the POR which were exported by the companies considered to be a part of the China-wide entity listed in Appendix II of this notice. If Commerce determines that an exporter under review had no shipments of the subject merchandise, any suspended entries that entered under that exporter's case number (i.e., at that exporter's rate) will be liquidated at the China-wide rate.²¹

²⁰ See 19 CFR 351.212(b)(1).

²¹ See Non-Market Economy Antidumping Proceedings: Assessment of Antidumping Duties, 76 FR 65694, 65695 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by section 751(a)(2)(C) of the Act: (1) For the subject merchandise exported by the company listed above that has a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in Commerce's presumption that reimbursement of antidumping duties occurred and the subsequent assessment of double antidumping duties.

Notification to Interested Parties

Commerce is issuing and publishing the preliminary results of this review in accordance with sections 751(a)(1)(B), 751(a)(3) and 777(i) of the Act, and 19 CFR 351.213 and 351.221(b)(4).

Dated: May 2, 2022.
Lisa W. Wang,
Assistant Secretary for Enforcement and Compliance.

Appendix I

List of Topics Discussed in the Preliminary Decision Memorandum

I. Summary

II. Background

III. Partial Rescission of Administrative Review

IV. Scope of the Order

V. No-Shipment Certifications

VI. Discussions of the Methodology

VII. Currency Conversion

VIII. Adjustment Under Section 777A(f) of the Act

IX. Recommendation

Appendix II

Companies Subject to Rescission of Review

1. Anhui Swanch Cabinetry Co., Ltd.

2. Anhui Xinyuanda Cupboard Co., Ltd.

3. Dalian Jiaye Wood Products Co., Ltd.

4. Dandong Laroyal Cabinetry Co., Ltd.

5. Foremost Worldwide Company Limited

6. Fujian Senyi Kitchen Cabinet Co., Ltd.

7. Fuzhou CBM Import & Export Co., Ltd.

8. Fuzhou Minlian Wood Industry Co., Ltd.

9. Hangzhou Entop Houseware Co., Ltd.

10. Hangzhou Hoca Kitchen & Bath Products Co., Ltd.

11. Hangzhou Home Dee Sanitary Ware Co., Ltd.

12. Hangzhou Royo Import & Export Co., Ltd.

13. Heyond Cabinet Co., Ltd.

14. Honsoar New Building Material Co., Ltd.

15. HS Furniture Industrial Co., Ltd.

16. Jiang Su Rongxin Wood Industry Co., Ltd.

17. Jiangsu Beichen Wood Co., Ltd.

18. Jiangsu Sunwell Cabinetry Co., Ltd.

19. Jiangsu Weisen Houseware Co., Ltd.

20. Kunshan Baiyulan Furniture Co., Ltd.

21. Linyi Bonn Flooring Manufacturing Co., Ltd.

22. Linyi Kaipu Furniture Co., Ltd.

23. Morewood Cabinetry Co., Ltd.

24. Pizhou Ouyme Import & Export Trade Co., Ltd.

25. Qingdao Shousheng Industry Co., Ltd.

26. Rizhao Foremost Woodwork Manufacturing Company Ltd.

27. Shandong Huanmei Wood Co., Ltd.

28. Shanghai Zifeng International Trading Co., Ltd.

29. Sheen Lead International Trading (Shanghai) Co., Ltd.

30. Shouguang Jinxiangyuan Home Furnishing Co., Ltd.

31. Shouguang Sanyang Wood Industry Co., Ltd.

32. Tech Forest Cabinetry Co., Ltd.

33. The Ancientree Cabinet Co., Ltd.

34. Weifang Fuxing Wood Co., Ltd.

35. Weihai Jarlin Cabinetry Manufacture Co., Ltd.

36. Xiamen Adler Cabinetry Co., Ltd.

37. Xiamen Goldenhome Co., Ltd.

38. Xuzhou Yihe Wood Co., Ltd.

39. Yichun Dongmeng Wood Co., Ltd.

40. Yixing Pengjia Cabinetry Co., Ltd.

Companies Considered To Be Part of the China-Wide Entity

1. Deqing Meisheng Import and Export Co., Ltd.

2. Fuzhou Pyrashine Trading Co., Ltd.

3. Jiang Su Rongxin Import and Export Co., Ltd.

4. Linshu Meibang Furniture Co., Ltd.

5. Shanghai Beautystar Cabinetry Co., Ltd.

6. Shanghai Zifeng Industries Development Co., Ltd.

7. ZBOM Cabinets Co., Ltd.

8. Zhongshan KM Cabinetry Co., Ltd.

Non-Selected Companies Under Review Receiving a Separate Rate

1. Dalian Meisen Woodworking Co., Ltd.

2. Fujian Dushi Wooden Industry Co., Ltd.

3. Guangzhou Nuolande Import and Export Co., Ltd.

4. Jiangsu Xiangsheng Bedtime Furniture Co., Ltd.

5. KM Cabinetry Co., Ltd.

6. Linyi Bomei Furniture Co., Ltd.

7. Nantong Aershin Cabinets Co., Ltd.

8. Senke Manufacturing Company

9. Shandong Longsen Woods Co., Ltd.

10. Shenzhen Pengchengzhirong Trade Co., Ltd.

11. Shouguang Fushi Wood Co., Ltd.

12. Suzhou Siemo Wood Import & Export Co., Ltd.

13. Taishan Oversea Trading Company Ltd.

14. Zhangzhou OCA Furniture Co., Ltd.

15. Zhoushan For-strong Wood Co., Ltd.

[FR Doc. 2022-09813 Filed 5-5-22; 8:45 am]

BILLING CODE 3510-DS-P